DEPARTMENT OF AGRICULTURE

Rural Utilities Service

Oglethorpe Power Corporation; Notice of Finding of No Significant Impact

AGENCY: Rural Utilities Service, USDA.

ACTION: Notice of finding of no significant impact.

SUMMARY: Notice is hereby given that the Rural Utilities Service (RUS) has made a finding of no significant impact with respect to the construction and operation of a 520-megawatt, natural gas fired, combined cycle electric generation plant in Heard County, Georgia. Oglethorpe Power Corporation proposes to be the agent to construct and operate the plant. The Rural Utilities Service (RUS) may provide financing for the plant to an entity made up of members of Oglethorpe Power Corporation. The specifics of that entity have yet to be determined.

FOR FURTHER INFORMATION CONTACT: Bob Quigel, Environmental Protection Specialist, Engineering and Environmental Staff, RUS, Stop 1571, 1400 Independence Avenue, SW, Washington, DC 20250-1571, telephone (202) 720-0468, e-mail at bquigel@rus.usda.gov.

SUPPLEMENTARY INFORMATION: Oglethorpe Power Corporation proposes to construct the proposed facility at the Hal B. Wansley Plant site in northeast Heard County approximately six miles southeast of Roopville, Georgia. The Wansley Plant is owned by Georgia Power Company, Oglethorpe Power Corporation, the Municipal Electricity Authority of Georgia, and the City of Dalton. Currently in operation at the site are two 865-megawatt, coal fired, electric generation units and a 49-megawatt, oil fired, combustion turbine. Oglethorpe Power Corporation's proposed plant is one of four blocks of additional electric generation facilities planned for construction at the site. Each block of additional generation is proposed to consist of two combustion turbines, two heat recovery steam generators, and one steam turbine. The total build-out of the four blocks would total approximately 2,280 megawatts.

The proposed project will be composed of two, nominal 167 megawatt Siemens V84.3A2 combustion turbines, each connected to a heat recovery steam generator which will power a nominal 187 megawatt Siemens steam turbine, for a total of 520 megawatts. It is the goal of Oglethorpe Power Corporation to have the plant in operation by the spring of 2003.

Copies of the Finding of No Significant Impact are available from RUS at the address provided herein or from Mr. Greg Jones of Oglethorpe Power Corporation, P.O. Box 1349, Tucker, Georgia 30085-1349, (800) 241-5374 x7890; greg.jones@opc.com. Copies of the environmental assessment are available for review at Oglethorpe Power Corporation and RUS at the addresses provided herein.

Dated: April 18, 2001.
Blaine D. Stockton,
Assistant Administrator, Electric Program.

[FR Doc. 01-10116 Filed 4-23-01; 8:45 am]

BILLING CODE 3410-15-P